DEPARTMENT OF HOMELAND SECURITY

U.S. Customs and Border Protection

Notice of Cancellation of Customs Broker Licenses Due to Death of the License Holder

AGENCY: U.S. Customs and Border Protection, Department of Homeland Security.

ACTION: Customs broker license cancellation due to death of the broker.

SUMMARY: Notice is hereby given that the customs broker licenses of certain brokers have been cancelled without prejudice due to the death of the license holders.

SUPPLEMENTARY INFORMATION: Notice is hereby given that, pursuant to section 641 of the Tariff Act of 1930, as amended (19 U.S.C. 1641) and section 111.51(a) of title 19 of the Code of Federal Regulations (19 CFR 111.51(a)), the following customs broker licenses and any and all associated permits have been cancelled without prejudice due to death of the broker.

Last name | First name | License No. | Port of issuance
Waters | Owen | 02371 | Charlotte.
Partyka | Leo | 09556 | Chicago.
Hastings, Jr. | Daniel | 05745 | Laredo.
Scarangello | Peter | 06420 | Los Angeles.

Dated: August 2, 2013.
Richard F. DiNucci,
Deputy Assistant Commissioner, Office of International Trade.

[FR Doc. 2013-19128 Filed 8-7-13; 8:45 am]

BILLING CODE 9111-14-P